DEPARTMENT OF ENERGY

Federal Energy Regulatory Commission

[Docket No. AD09-11-000]

Energy Efficiency of Natural Gas Infrastructure and Operations Conference; Final Notice of Public Conference

May 18, 2010.

As announced in the “Notice of Public Conference” issued on March 31, 2010, a public conference will be held on May 25, 2010, from 9 a.m. to 3 p.m. (EST) in the Commission Meeting Room at the Federal Energy Regulatory Commission, 888 First Street, NE., Washington, DC 20426. The conference will be open for the public to attend and advance registration is not required. Members of the Commission are expected to attend and participate in the conference.

The purpose of this conference is to explore issues related to efficiency measures on the interstate natural gas grid as well as waste heat recovery opportunities. This conference will also provide an opportunity for interested parties to express their views and suggestions regarding ongoing efforts at the Commission to promote efficiency measures. Attached to this notice is the agenda of conference.

A free Webcast of this event is available through http://www.ferc.gov. Anyone with Internet access who desires to listen to this event can do so by navigating to the Calendar of Events at http://www.ferc.gov and locating this event in the Calendar. The event will contain a link to its Webcast. The Capitol Connection provides technical support for webcasts and offers the option of listening to the conference via phone-bridge for a fee. If you have any questions, visit http://www.CapitolConnection.org or call (703) 993-3100.

FERC conferences are accessible under section 508 of the Rehabilitation Act of 1973. For accessibility accommodations please send an e-mail to accessibility@ferc.gov or call toll free 866-208-3372 (voice) or (202)-208-1659 (TTY), or send a FAX to (202) 208-2106 with the required accom­modations.

For information about the conference, please contact Pamela Romano at (202) 502-6854 or pamela.romano@ferc.gov.

Kimberly D. Bose,
Secretary.

Federal Energy Regulatory Commission

Energy Efficiency of Natural Gas Infrastructure and Operations Conference

Public Conference; May 25, 2010

9 a.m.—Opening Remarks and Introductions

9:10 a.m.—Agenda Overview

Pamela Romano, Facilitator, Office of Energy Projects

9:15 a.m.—Panel 1: Industry Trade Groups

Topics include efficiency measures across the national pipeline grid.

• Richard D. Murphy, S.V.P. Energy Solutions Services, National Grid, on behalf of the American Gas Association (AGA).

• Bryan Neskora, Tennessee Gas Pipeline, on behalf of The Interstate Natural Gas Association of America (INGAA).

9:45 a.m.—Panel 2: Interstate Natural Gas Pipeline Companies

Topics include efficiency measures as well as opportunities for waste heat recovery projects and issues associated with fugitive methane.

• Bruce Hedman, ICF International, on behalf of INGAA.

• Scott Messersmith, Questar Pipeline Co.

• Murray Birch, Alliance Pipeline Inc.

• Robert S. Checketts, MidAmerican Energy Pipeline Group.

• Al Behrens, Northern Border Pipeline.

10:45 a.m.—Panel 3: Waste Heat Recovery Facilities Installation

Topics include issues and solutions for installing waste heat recovery facilities on natural gas pipelines from the facility manufacturers' standpoint.

• Paul Thomsen, Ormat Technologies.

• Jeremy Barnes, GE Oil & Gas.

11:45 a.m.—Break for Lunch

12:45 p.m.—Panel 4: Cost Allocation and Revenue Crediting for Efficiency Measures

Topics to include rate impacts, tariff concerns and revenue allocations for efficiency measures, waste heat recovery facilities and issues associated with fugitive methane.

• Richard D. Murphy, S.V.P. Energy Solutions Services, National Grid, on behalf of AGA.

• Richard Notte, on behalf of Process Gas Consumers Group.

• Michael McMahon, Boardwalk Pipeline Partners.

• Tony Straquadine, Alliance Pipeline Inc.

1:45 p.m.—Open Forum

2:45 p.m.—Closing Remarks

3 p.m.—Adjourn

[FR Doc. 2010-12499 Filed 5-24-10; 8:45 am]

BILLING CODE 6717-01-P